FEDERAL MARITIME COMMISSION

Ocean Transportation Intermediary License Reissuance

Notice is hereby given that the following Ocean Transportation Intermediary licenses have been reissued by the Federal Maritime Commission pursuant to section 19 of the Shipping Act of 1984 (46 U.S.C. chapter 409) and the regulations of the Commission pertaining to the licensing of Ocean Transportation Intermediaries, 46 CFR part 515.

License No. | Name/address | Date reissued
015847F | Straightline Logistics, Inc., One Cross Island Plaza, Suite 210, Rosedale, NY 11422 | February 13, 2011.
017279N | Unicom Trans, Inc., 15500 S. Western Avenue, Gardena, CA 90249 | February 23, 2011.
018125NF | Echo-Translink Systems (ETS), dba Echo Worldwide, 12356 Northup Way, Suite 112, Bellevue, WA 98006 | February 28, 2011.
022184N | Santiago Cargo Express, Corp., 9-16 37th Avenue, Long Island City, NY 11101 | February 25, 2011.

Sandra L. Kusumoto,
Director, Bureau of Certification and Licensing.

[FR Doc. 2011-9596 Filed 4-19-11; 8:45 am]

BILLING CODE P